DEPARTMENT OF THE INTERIOR

Bureau of Ocean Energy Management

[Docket No. BOEM-2015-0119]

Outer Continental Shelf (OCS), Gulf of Mexico (GOM), Oil and Gas Western Planning Area (WPA) Lease Sale 248, MMAA104000

AGENCY: Bureau of Ocean Energy Management (BOEM), Interior.

ACTION: Notice of availability of a Final Supplemental Environmental Impact Statement.

SUMMARY: BOEM is announcing the availability of a Final Supplemental Environmental Impact Statement (SEIS) for proposed GOM OCS Oil and Gas WPA Lease Sale 248. The Final SEIS provides a discussion of the potential significant impacts of the proposed action, provides an analysis of reasonable alternatives to the proposed action, and identifies the Bureau's preferred alternative.

The Final SEIS is available on BOEM's Web site at http://www.boem.gov/nepaprocess/. BOEM will primarily distribute digital copies of the Final SEIS on compact discs. You may request a paper copy or the location of a library with a digital copy of the Final SEIS from the Bureau of Ocean Energy Management, Gulf of Mexico OCS Region, Public Information Office (GM 250C), 1201 Elmwood Park Boulevard, Room 250, New Orleans, Louisiana 70123-2394 (1-800-200-GULF).

FOR FURTHER INFORMATION CONTACT: For more information on the WPA 248 Final Supplemental Environmental Impact Statement, you may contact Mr. Gary D. Goeke, Bureau of Ocean Energy Management, Gulf of Mexico OCS Region, Office of Environment (GM 623E), 1201 Elmwood Park Boulevard, New Orleans, Louisiana 70123-2394 or by email at wpa248@boem.gov. You may also contact Mr. Goeke by telephone at 504-736-3233.

Authority: This Notice of Availability of a Final Supplemental Environmental Impact Statement is in compliance with the National Environmental Policy Act of 1969, as amended (42 U.S.C. 4321 et seq.), and is published pursuant to 43 CFR 46.415.

Dated: January 4, 2016.
Abigail Ross Hopper,
Director, Bureau of Ocean Energy Management.

[FR Doc. 2016-02653 Filed 2-18-16; 8:45 am]

BILLING CODE 4310-MR--P